DEPARTMENT OF TRANSPORTATION

Federal Railroad Administration

[Docket Number FRA-2006-24812]

Petition for Waiver of Compliance and Notice of Public Hearing

In accordance with part 211 of Title 49 Code of Federal Regulations (CFR), this document provides the public notice that by a document dated February 6, 2015, BNSF Railway (BNSF), has petitioned the Federal Railroad Administration (FRA) for an extension of and modification to its waiver of compliance from certain provisions of the Federal railroad safety regulations contained at 49 CFR part 232, Brake System Safety Standards for Freight and Other Non-Passenger Trains and Equipment. Specifically, BNSF requests to extend the mileage limits specified for certain designated extended haul trains (see 49 CFR 232.213, Extended haul trains). FRA assigned the petition Docket Number FRA-2006-24812.

In its petition, BNSF states that it has a history of successfully running trains under the existing waiver in Docket Number FRA-2006-24812, and under the conditions of the temporary waiver granted in Docket Number FRA-2014-0070. BNSF states that it safely conducted thousands of loadings and millions of ton-miles with a defect ratio nearly identical to that of traditional operations since the first waiver was implemented in 2006. Based on the important benefits to safety and network fluidity associated with the successful implementation of the temporary 1,800-mile inspection waiver (Docket Number FRA-2014-0070) and BNSF's extensive history running extended haul trains under both waivers, BNSF would like to continue and modestly extend the current BNSF waiver in Docket Number FRA-2006-24812 to 1,702 miles, from the current mileage of 1,603. BNSF states that this modest 99-mile increase in distance to 1,702 miles would afford a substantial portion of the benefits identified at the 1,800-mile distance. The incremental increase of 99 miles would allow for 68.2 percent of the coal and grain trains currently operating under the waiver in FRA-2014-0070 to be added to BNSF's waiver in FRA-2006-24812.

BNSF believes that the current waiver petition is consistent with meeting FRA's safety focus and is appropriate for National commerce concerns. This petition would be for current grain and coal trains operating within BNSF's network currently running at less than 1,702 miles between designated extended haul inspection points. The BNSF trains included in this request operate the very same type of equipment as the existing waiver trains. BNSF states it is very confident that slightly increasing the length of the extended haul inspection points on these trains listed will have no adverse impact on safe operations.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. In addition, FRA has determined that the facts of this proceeding warrant a public hearing. Accordingly, a hearing is hereby scheduled to begin at 10:00 a.m. on May 21, 2015, at the Alliance Public Library, 1750 Sweetwater Avenue, Alliance, NE 69301. Interested parties are invited to present oral statements at this hearing. For information on facilities or services for persons with disabilities, or to request special assistance at the hearing, contact Mr. Steven Zuiderveen, FRA Railroad Safety Specialist, by telephone, email, or in writing, at least 5 business days before the date of the hearing. Mr. Zuiderveen's contact information is as follows: FRA, Office of Railroad Safety, Mail Stop 25, 1200 New Jersey Avenue SE., Washington, DC 20590; (202) 493-6337; Steven.Zuiderveen@dot.gov. The informal hearing will be conducted by a representative designated by FRA in accordance with FRA's Rules of Practice (see specifically 49 CFR 211.25). FRA's representative will make an opening statement outlining the scope of the hearing, as well as any additional procedures for the conduct of the hearing. The hearing will be a nonadversarial proceeding in which all interested parties will be given the opportunity to express their views regarding the waiver petition without cross examination. After all initial statements have been completed, those individuals wishing to make brief rebuttal statements will be given an opportunity to do so.

In addition, FRA is extending the comment period for this waiver petition to June 21, 2015, to allow adequate time for any additional comments to be submitted following the public hearing on May 17, 2015.

Communications received by that date will be considered by FRA before final action is taken. Comments received after that date will be considered as far as practicable. All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL—14 FDMS), which can be reviewed at www.dot.gov/privacy. See also http://www.regulations.gov/#!privacyNotice for the privacy notice of regulations.gov.

Issued in Washington, DC, on March 31, 2015.
Ron Hynes,
Director, Office of Technical Oversight.

[FR Doc. 2015-07656 Filed 4-2-15; 8:45 am]

BILLING CODE 4910-06-P